FEDERAL MINE SAFETY AND HEALTH REVIEW COMMISSION

Sunshine Act Notice

December 22, 2015.

TIME AND DATE: 10:00 a.m., Thursday, January 7, 2016.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Maxxim Rebuild Company, LLC, Docket Nos. KENT 2013-566, et al. (Issues include whether the Judge erred in ruling that the facility is subject to the jurisdiction of the Mine Safety and Health Administration.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2015-32556 Filed 12-22-15; 4:15 pm]

BILLING CODE 6735-01-P